SECURITIES AND EXCHANGE COMMISSION

[Release No. 34-104708; File No. SR-NYSE-2025-43]

Self-Regulatory Organizations; New York Stock Exchange LLC; Notice of Designation of a Longer Period for Commission Action on a Proposed Rule Change, as Modified by Amendment No. 1, To Amend Section 802.01C of the NYSE Listed Company Manual

January 28, 2026.

On December 3, 2025, New York Stock Exchange LLC (“NYSE” or the “Exchange”) filed with the Securities and Exchange Commission (“Commission”), pursuant to Section 19(b)(1) of the Securities Exchange Act of 1934 (“Act”) ¹ and Rule 19b-4 thereunder,² a proposed rule change to amend Section 802.01C of the NYSE Listed Company Manual. The proposed rule change was published for comment in the Federal Register on December 17, 2025.³ On January 22, 2026, the Exchange filed Amendment No. 1 to the proposed rule change, which replaced and superceded the original proposed rule change in its entirety.⁴

¹ 15 U.S.C. 78s(b)(1).

² 17 CFR 240.19b-4.

³ See Securities Exchange Act Release No. 104385 (Dec. 12, 2025), 90 FR 58669. The Commission has received no comment letters on the proposed rule change.

⁴ In Amendment No. 1, the Exchange: (1) made changes to consistently use the term “NYSE Listed Company Manual”; (2) made clarifying changes about a company's eligibility to submit a plan to regain compliance pursuant to Sections 802.01C, 802.02 and 802.03; (3) clarified the Exchange's authority to suspend trading in or delist a security; and (4) made other technical and non-substantive changes. The full text of Amendment No. 1 can be found on the Commission's website at https://www.sec.gov/comments/sr-nyse-2025-47/srnyse202543-696267-2177015.pdf.

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day after publication of the notice for this proposed rule change is January 31, 2026. The Commission is extending this 45-day time period.

⁵ 15 U.S.C. 78s(b)(2).

The Commission finds it appropriate to designate a longer period within which to take action on the proposed rule change, as modified by Amendment No. 1, so that it has sufficient time to consider the proposed rule change and the issues raised therein. Accordingly, the Commission, pursuant to Section 19(b)(2) of the Act,⁶ designates March 17, 2026, as the date by which the Commission shall either approve or disapprove, or institute proceedings to determine whether to disapprove, the proposed rule change, as modified by Amendment No. 1 (File No. SR-NYSE-2025-43).

⁶ 15 U.S.C. 78s(b)(2).

For the Commission, by the Division of Trading and Markets, pursuant to delegated authority.⁷
⁷ 17 CFR 200.30-3(a)(31).
Sherry R. Haywood,
Assistant Secretary.

[FR Doc. 2026-01977 Filed 1-30-26; 8:45 am]

BILLING CODE 8011-01-P